DEPARTMENT OF ENERGY

Federal Energy Regulatory Commission

[Docket No. CP02-409-000]

ANR Storage Company; Notice of Application

July 29, 2002.

Take notice that on July17, 2002, ANR Storage Company (ANR Storage), 9 E Greenway Plaza, Houston, Texas 77046, filed in the captioned docket an application for a certificate of public convenience and necessity and related authorizations pursuant to section 7 of the Natural Gas Act (NGA), as amended, and the Commission's Rules and Regulations thereunder, requesting that the Commission issue an order authorizing ANR Storage to make the well modifications as described in its application.

ANR Storage states that it does not seek to increase the existing certificated storage capacity or injection/withdrawal deliverability of its facility. ANR Storage's proposed activities will improve operational efficiency of its storage reservoir within existing certificated limits. While ANR Storage has met all of its customer requests for service since the Excelsior 6 field has been in operation, attempts have been made to improve deliverability from the west reef, including various replacements. However, working gas remains stranded at free flow conditions due to a lack of processing facilities to remove hydrocarbon liquids from the gas stream. This effectively excludes utilization of compressors for withdrawal, resulting in an inability to cycle an additional 4.0 Bcf of combined working gas. Consequently, ANR Storage proposes to drill several lateral extensions from the boreholes of two wells in order to enhance deliverability during the withdrawal season, and to install gas cooling and separation equipment at the Excelsior station, which will enable the use of compression withdrawal. These modifications will increase Excelsior 6 and Cold Springs 31 late-season deliverability and ability to cycle working gas, while remaining within the certificated limits of 200 Mmcfd.

More specifically, ANR Storage requests authorization to—

(i) drill several lateral extensions from the well bores of two existing wells in the Excelsior 6/East Kalkaska 1 storage fields towards zones of high porosity and permeability in the west reef; and

(ii) install gas cooling and separation equipment at the Excelsior station in Kalkaska County, Michigan for the purposes of removing hydrocarbon liquids from the gas stream;

at a total capital cost of $4,397,400, all as more thoroughly described in the application on file with the Commission and open to public inspection. ANR Storage also requests that this application be disposed of in accordance with the shortened procedures set forth in Rules 801 and 802 of the Commission's Rules of Practice and Procedure. ANR Storage requests that the intermediate decision procedure be omitted and waives oral hearing, and requests that the Commission grant such other and further authorizations, relief and/or waivers as the Commission deems necessary to enable ANR Storage to complete the project as proposed.

This filing may be viewed on the Web at http://www.ferc.gov. Using the “RIMS” link, select “Docket#” and follow the instructions (please call (202)208-2222 for assistance). Any questions regarding this application should be directed to Dawn A. McGuire, Attorney, 9 E Greenway Plaza, Houston, Texas 77046, (832) 676-5503.

ANR Storage states that no new rates or rate schedules are being proposed, and that it will charge rates as currently set forth in its tariff for any service that utilizes the proposed facilities. Further, ANR Storage is not requesting any change to the Maximum Daily Withdrawal Quantity and Maximum Daily Injection Quantity from the currently authorized levels.

There are two ways to become involved in the Commission's review of this project. First, any person wishing to obtain legal status by becoming a party to the proceedings for this project should, on or before August 19, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the internet in lieu of paper. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Linwood A. Watson, Jr.,
Deputy Secretary.

[FR Doc. 02-19508 Filed 8-1-02; 8:45 am]

BILLING CODE 6717-01-P